DEPARTMENT OF TRANSPORTATION

Federal Aviation Administration

14 CFR Part 71

[Docket No. FAA-2024-2099; Airspace Docket No. 24-AWP-105]

RIN 2120-AA66

Modification of Class E Airspace; Battle Mountain Airport, Battle Mountain, NV

AGENCY: Federal Aviation Administration (FAA), DOT.

ACTION: Supplemental notice of proposed rulemaking (SNPRM).

SUMMARY: This action revises a notice of proposed rulemaking (NPRM) published in the Federal Register on January 7, 2025. As revised, this action proposes to modify the Class E airspace area designated as surface area, modify the Class E airspace area designated as an extension to a Class D or Class E surface area, and modify the Class E airspace extending upward from 700 feet or more above the surface of the earth at Battle Mountain Airport, Battle Mountain, NV. Additionally, this action proposes administrative amendments to update the airport's existing Class E airspace legal descriptions. These actions would support the safety and management of instrument flight rules (IFR) operations at the airport.

DATES: Comments must be received on or before July 3, 2025.

ADDRESSES: Send comments identified by FAA Docket No. FAA-2024-2099 and Airspace Docket No. 24-AWP-105 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class E airspace at Battle Mountain Airport, Battle Mountain, NV, to support IFR operations.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office at the Northwest Mountain Regional Office of the Federal Aviation Administration, Air Traffic Organization, Western Service Center, Operations Support Group, 2200 S 216th Street, Des Moines, WA 98198.

Incorporation by Reference

Class E2, E4, and E5 airspace designations are published in paragraphs 6002, 6004, and 6005, respectively, of FAA Order JO 7400.11, Airspace Designations and Reporting Points, which is incorporated by reference in 14 CFR 71.1 on an annual basis. This document proposes to amend the current version of that order, FAA Order JO 7400.11J, dated July 31, 2024 and effective September 15, 2024. These updates would be published in the next update to FAA Order JO 7400.11. FAA Order JO 7400.11J is publicly available as listed in the ADDRESSES section of this document.

FAA Order JO 7400.11J lists Class A, B, C, D, and E airspace areas, air traffic service routes, and reporting points.

Background

The FAA published an NPRM in the Federal Register for FAA-2024-2099 (90 FR 1050; January 7, 2025) to modify Class E airspace at Battle Mountain Airport, Battle Mountain, NV. Subsequent to that publication, the FAA discovered a final rule published in the Federal Register for FAA-2019-0786 (85 FR 18870; April 3, 2020), which had inadvertently never been recorded within JO 7400.11, Airspace Designations and Reporting Points. The discovery of the above-mentioned final rule does not alter the intentions of the original proposal, but it does necessitate modifications to the verbiage used to describe the FAA's proposed actions. The proposed modifications to the Class E airspace extending upward from 700 feet above the surface are now described in relation to the final rule for FAA-2019-0786 (85 FR 18870; April 3, 2020), and the proposed action for the Class E airspace area designated as an extension to a Class E Surface Area airspace area now reads “AMENDED” instead of “NEW.” Additionally, the FAA identified that the NPRM airspace docket number was incorrect; “24-ANM-105” should have been “24-AWP-105” to reflect the airport's inclusion within the FAA's Western-Pacific Region. This is an administrative docket number used by the FAA to identify airspace actions. The docket number (FAA-2024-2099) used by the public to access the docket on www.regulations.gov is correct and remains the same. This SNPRM updates the FAA's proposal to correct these errors.

The Proposal

This action is a revision to an NPRM published in the Federal Register on January 7, 2025 (90 FR 1050). As revised, The FAA is proposing an amendment to 14 CFR part 71 to modify the Class E airspace area designated as surface area, modify the Class E airspace area designated as an extension to a Class D or Class E surface area, modify the Class E airspace extending upward from 700 feet above the surface of the earth, and remove Class E airspace extending upward from 1,200 feet above the surface at Battle Mountain Airport, Battle Mountain, NV.

The Class E airspace area designated as surface area should be expanded from a 4.2-mile radius to a 4.4-mile radius and have a 0.1-mile extension to the southwest of the airport to more appropriately contain departing IFR aircraft executing the Runway (RWY) 22 obstacle departure procedure (ODP) while between the surface and the base of adjacent controlled airspace.

In addition, the Class E airspace designated as an extension to a Class D or Class E surface area should be realigned to a 221° bearing and expanded to contain arriving IFR aircraft on the very high frequency omnidirectional range (VOR) RWY 4 approach while below 1,000 feet above the surface.

Moreover, the Class E airspace extending upward from 700 feet above the surface should be reduced to a 5-mile radius through all but the northwest portion to better contain arriving IFR aircraft descending below 1,500 feet and departing IFR aircraft until reaching 1,200 feet above the surface. The northeast extension should be realigned to a 051° bearing and expanded to appropriately contain arriving IFR aircraft below 1,500 feet above the surface while executing the area navigation (RNAV) (Global Positioning System [GPS]) RWY 22 approach. There should be a southwest extension within 3.5 miles southeast and 3.6 miles northwest of the 221° bearing extending from the 5-mile radius to 11.5 miles southwest of the airport to appropriately contain arriving IFR aircraft descending below 1,500 feet above the surface while executing the VOR RWY 4 or RNAV (GPS) RWY 4 approaches, departing IFR aircraft while executing the RWY 13 or RWY 33 ODPs, and IFR aircraft ascending via the RNAV (GPS) RWY 22 missed approach procedure until reaching 1,200 feet above the surface. The northwest portion of the radius should be reduced in size to a 5.5-mile radius, and should be extended on the airport's 319° bearing from the 5.5-mile radius to 6.7 miles northwest of the airport to more appropriately contain IFR aircraft departing RWY 31 until reaching 1,200 feet above the surface.

Also, the Battle Mountain Class E airspace extending upward from 1,200 feet above the surface should be removed as it is made redundant by existing Class E domestic en route airspace.

Lastly, this action proposes administrative amendments to update the airport's existing Class E airspace legal descriptions to align with FAA databases.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6002 Airspace Areas Designated as Surface Area.

* * * * *

ANM NV E2 Battle Mountain, NV [Amended]

Battle Mountain Airport, NV

(Lat. 40°35′57″ N, long. 116°52′28″ W)

That airspace extending upward from the surface within a 4.4-mile radius of the airport and within 1.8 miles southeast and 1.9 miles northwest of the 228° bearing extending from the 4.4-mile radius to 4.5 miles southwest of the airport.

* * * * *

Paragraph 6004 Airspace Areas Designated as an Extension to a Class D or Class E Surface Area.

* * * * *

ANM NV E4 Battle Mountain, NV [Amended]

Battle Mountain Airport, NV

(Lat. 40°35′57″ N, long. 116°52′28″ W)

That airspace extending upward from the surface within 2.9 miles southeast and 3.4 miles northwest of the 221° bearing extending from the 4.4-mile radius to 10.4 miles southwest of the airport excluding that airspace within the Battle Mountain Airport Class E2.

* * * * *

Paragraph 6005 Class E Airspace Areas Extending Upward From 700 Feet or More Above the Surface of the Earth.

ANM NV E5 Battle Mountain, NV [Amended]

Battle Mountain Airport, NV

(Lat. 40°35′57″ N, long. 116°52′28″ W)

That airspace extending upward from 700 feet above the surface within a 5-mile radius of the airport, within 4.9 miles northwest and 1.9 miles southeast of the 051° bearing extending from the 5-mile radius to 11.1 miles northeast of the airport, within 3.5 miles southeast and 3.6 miles northwest of the 221° bearing extending from the 5-mile radius to 11.5 miles southwest of the airport, within 1.8 miles either side of the 319° bearing extending from the 5-mile radius to 6.7 miles northwest of the airport, and within a 5.5-mile radius clockwise from a 319° bearing to a 349° bearing from the airport.

* * * * *

Issued in Des Moines, Washington, on May 12, 2025.
B.G. Chew,
Group Manager, Operations Support Group, Western Service Center.

[FR Doc. 2025-08763 Filed 5-16-25; 8:45 am]

BILLING CODE 4910-13-P